DEPARTMENT OF AGRICULTURE

Food Safety and Inspection Service

9 CFR Part 590

[Docket No. FSIS-2005-0015]

RIN 0583-AC58

Egg Products Inspection Regulations; Correction

AGENCY: Food Safety and Inspection Service, Department of Agriculture (USDA).

ACTION: Correcting amendment.

SUMMARY: The Food Safety and Inspection Service (FSIS) is correcting its regulations requiring official plants that process egg products (herein also referred to as “egg products plants” or “plants”) to develop and implement Hazard Analysis and Critical Control Point (HACCP) Systems and Sanitation Standard Operating Procedures (Sanitation SOPs) and to meet other sanitation requirements consistent with FSIS' meat and poultry regulations.

DATES: This correction is effective November 3, 2021, except for amendatory instructions 3 and 5, which are effective October 31, 2022.

FOR FURTHER INFORMATION CONTACT: Victoria Levine, Program Analyst, Office of Policy and Program Development by telephone at (202) 690-3184.

SUPPLEMENTARY INFORMATION: FSIS is making changes to the egg products inspection regulations because plants that have not already implemented HACCP will continue to need to meet the times and temperatures contained in Table 1 of 9 CFR 590.530 and the times and temperatures found in 9 CFR 590.536 until the HACCP regulations become effective on October 31, 2022.

List of Subjects in 9 CFR Part 590

Eggs and egg products, Exports, Food grades and standards, Food labeling, Imports, Reporting and recordkeeping requirements.

For the reasons set out in the preamble, 9 CFR part 590 is corrected by making the following correcting amendments:

PART 590—INSPECTION OF EGGS AND EGG PRODUCTS (EGG PRODUCTS INSPECTION ACT)

1. The authority citation for part 590 continues to read as follows:

Authority: 21 U.S.C. 1031-1056; 7 CFR 2.18, 2.53.

2. Add § 590.530 to read as follows:

§ 590.530 Liquid egg cooling.

(a) through (b) [Reserved]

(c) The cooling and temperature requirements for liquid egg products shall be as specified in Table 1 to this section.

Table 1 to § 590.530—Minimum Cooling and Temperature Requirements for Liquid Egg Products
[Unpasterurized product temperature within 2 hours from time of breaking]
Product | Liquid (other than salt product) to be held 8 hours or less | Liquid (other than salt product) to be held in excess of 8 hours | Liquid salt product | Temperature within 2 hours after pasteurization | Temperature within 3 hours after stabilization
Whites (not to be stabilized) | 55 °F or lower | 45 °F or lower |  | 45 °F or lower
Whites (to be stabilized) | 70 °F or lower | 55 °F or lower |  | 55 °F or lower | (¹).
All other product (except product with 10 percent or more salt added) | 45 °F or lower | 40 °F or lower |  | If to be held 8 hours or less 45 °F or lower. If to be held in excess of 8 hours, 40 °F or lower | If to be held 8 hours or less, 45 °F or lower. If to be held in excess of 8 hours, 40 °F or lower.
Liquid egg product with 10 percent or more salt added |  |  | If to be held 30 hours or less, 65 °F or lower. If to be held in excess of 30 hours, 45 °F or lower | 65 °F or lower ²
¹ Stabilized liquid whites shall be dried as soon as possible after removal of glucose. The storage of stabilized liquid whites shall be limited to that necessary to provide a continuous operation.
² The cooling process shall be continued to assure that any salt product to be held in excess of 24 hours is cooled and maintained at 45 °F or lower.

(d) Upon written request and under such conditions as may be prescribed by the National Supervisor, liquid cooling and holding temperatures not otherwise provided for in this section may be approved.

(e) through (g) [Reserved]

§ 590.530 [Removed]

3. Effective October 31, 2022, remove § 590.530.

§ 590.536 [Amended]

4. Add § 590.536 to read as follows:

§ 590.536 Freezing operations.

(a) [Reserved]

(b)(1) Nonpasteurized egg products which are to be frozen shall be solidly frozen or reduced to a temperature of 10 °F or lower within 60 hours from time of breaking.

(2) Pasteurized egg products which are to be frozen shall be solidly frozen or reduced to a temperature of 10 °F or lower within 60 hours from time of pasteurization.

(3) The temperature of the products not solidly frozen shall be taken at the center of the container to determine compliance with this section.

(c) through (e) [Reserved]

§ 590.536 [Removed]

5. Effective October 31, 2022, remove § 590.536.

Done at Washington, DC.
Theresa Nintemann,
Deputy Administrator.

[FR Doc. 2021-23703 Filed 11-2-21; 8:45 am]

BILLING CODE 3410-DM-P